DEPARTMENT OF HEALTH AND HUMAN SERVICES

Agency for Toxic Substances and Disease Registry

[30Day-21-0055]

Agency Forms Undergoing Paperwork Reduction Act Review

In accordance with the Paperwork Reduction Act of 1995, the Agency for Toxic Substances and Disease Registry (ATSDR) has submitted the information collection request titled “ATSDR Communication Activities Survey (ACAS)” to the Office of Management and Budget (OMB) for review and approval. ATSDR previously published a “Proposed Data Collection Submitted for Public Comment and Recommendations” notice on 04/03/2020 to obtain comments from the public and affected agencies. ATSDR did not receive comments related to the previous notice. This notice serves to allow an additional 30 days for public and affected agency comments.

ATSDR will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

ATSDR Communication Activities Survey (ACAS) (OMB Control No. 0923-0055, Exp. 06/30/2020)—Reinstatement with Change—Agency for Toxic Substances and Disease Registry (ATSDR).

Background and Brief Description

The Agency for Toxic Substances and Disease Registry (ATSDR) is seeking a three-year Paperwork Reduction Act clearance for this reinstatement with change information collection request (ICR) titled the “ATSDR Communication Activities Survey (ACAS)” (OMB Control No. 0923-0055, expiration date 06/30/2020).

ATSDR serves the public through responsive public health actions to promote healthy and safe environments and to prevent harmful exposures. The agency aims to work effectively with communities in proximity to hazardous waste sites by listening to and understanding their health concerns and seeking their guidance on where, when, and how to take public health actions.

Community members are key participants in the agency's public health assessment process and should be actively involved in decisions that impact their community. Thus, agency goals for this ICR are to continue to ascertain the effectiveness of, the differences in, and the consistency of the delivery of ATSDR activities and respondent perceptions across sites and over time. ATSDR will use the ACAS to: (1) Determine how effectively it's site teams engage community members; (2) discover how well ATSDR provides effective, clear, and consistent communication and information on how to promote healthy and safe environments; (3) understand whether the agency's activities are helping the communities address environmental issues; and (4) improve ATSDR's activities to make a greater impact within the communities served.

Over the next three years, ATSDR will continue to conduct the ACAS at communities where ATSDR and state or local agencies have implemented site activities to address environmental issues. For each engaged community, the ACAS will be used to assess a set of effectiveness indicators for ATSDR site-specific activities about the respondents' involvement, knowledge, satisfaction, observations, and opinions about ATSDR's community engagement and educational outreach efforts to inform communities. The indicators will measure ATSDR effectiveness in the following respondent areas: (1) Their involvement with the site activities; (2) how they received, and prefer to receive, ATSDR information; (3) their knowledge and understanding of ATSDR site activities and how to reduce hazardous exposures; (4) their observations and opinions of ATSDR's role in community preparedness; (5) their self-evaluation on their risk of exposure to possible environmental hazards; (6) their demographic profile; (7) their environmental concerns; and (8) any additional feedback.

ATSDR has assessed its recent uses of the ACAS and proposes several changes to increase the utility and efficiency of this survey. During 2018, 125 surveys were collected from seven sites (62% paper/38% online). ATSDR proposes to eliminate telephone surveys, given that none were requested. Thus, the estimated time burden and number of respondents for the ACAS has been reapportioned between hardcopy and online collections. ATSDR would like to remove one question and add three additional questions on the ACAS. As an additional change, ATSDR will no longer seek PRA clearance to provide incentives for community members who respond to the ACAS.

In addition, ATSDR would like to pilot using text messaging as a way of collecting data quickly; thus, ATSDR proposes to conduct a highly abbreviated three-question form of the survey via SMS text messaging using “Poll Everywhere” software. Respondents, using their own cell phones, will text their answers to a number generated by the software. ATSDR does not propose to offer incentives for those who respond to the SMS Text Survey.

ATSDR anticipates that approximately six to seven sites will be engaged for feedback per year (or about 20 sites over the next three years). Each year, ATSDR will recruit approximately 367 individuals, aged 18 and older, to participate in the ACAS or the abbreviated SMS Text Survey where ATSDR is holding public community meetings. Therefore, respondents will include approximately 52 to 61 community members and agency stakeholders per meeting (6 to 7 meetings per year). The community members may include, but are not limited to, the general public, community leaders, faith-based leaders, and business leaders. The agency stakeholders may include, but are not limited to, state and local environmental health department employees, such as environmental health assessors, toxicologists, and departmental officials. The mix of respondents will be approximately 75% community members (n=275 per year) and 25% agency stakeholders (n=92 per year).

For meetings where the ACAS is offered, trained ATSDR staff will have a table set up at the entrance of the community meeting where community meeting attendees will pick up a fact sheet which explains what ATSDR does, and the purpose of ATSDR's site activities and the two different survey options. At the end of these ATSDR public community meetings, there will be an announcement to ask interested attendees to take the ACAS. All interested attendees will sign in (n=167) and provide their preferred mode for taking the ACAS (in-person or online). The ACAS will preferably be self-administered right after the public community meetings. If this is not a convenient time for the respondent, the ACAS may be completed online. When offered, we estimate that most respondents will choose the self-administered ACAS (n=103) and fewer will choose the online ACAS (n=64). For purposes of burden estimation, 125 (75%) of the respondents will be community members and 42 will be agency stakeholders (25%).

We will offer the abbreviated SMS Text Survey at selected sites where the number of meeting attendees is large. Sign-in for this mode of collection will not be required. For purposes of burden estimation, ATSDR anticipates that an additional 200 respondents will consent to this abbreviated SMS Text Survey each year; we have apportioned the respondent type as applied to the ACAS (150 community members and 50 agency stakeholders).

ATSDR is requesting an increase in the annual number of responses from 334 in 2017 to 534 in 2020, and an increase in the annual time burden from 49 hours in 2017 to 58 hours in 2020. These increases are based on the addition of the pilot SMS Text Survey. There are no costs to the respondents other than their time.

Estimated Annualized Burden Hours
Type of respondents | Form name | Number of respondents | Number of responses per respondent | Avg. burden per response (in hrs.)
Community Members | ACAS Sign In Sheet | 125 | 1 | 2/60
| Hardcopy ACAS | 77 | 1 | 15/60
| Online ACAS | 48 | 1 | 15/60
| SMS Text Survey | 150 | 1 | 3/60
Agency Stakeholders | ACAS Sign In Sheet | 42 | 1 | 2/60
| Hardcopy ACAS | 26 | 1 | 15/60
| Online ACAS | 16 | 1 | 15/60
| SMS Text Survey | 50 | 1 | 3/60

Jeffrey M. Zirger,
Lead, Information Collection Review Office, Office of Scientific Integrity, Office of Science, Centers for Disease Control and Prevention.

[FR Doc. 2020-27322 Filed 12-10-20; 8:45 am]

BILLING CODE 4163-18-P